DEPARTMENT OF EDUCATION

International Education Programs Service; Fulbright-Hays Group Projects Abroad Program

AGENCY: Office of Postsecondary Education, Department of Education.

ACTION: Notice of final priorities.

Catalog of Federal Domestic Assistance (CFDA) Number: 84.021.

SUMMARY: The Assistant Secretary for Postsecondary Education announces two priorities for the Fulbright-Hays Group Projects Abroad (GPA) Program administered by the International Education Programs Service. The Assistant Secretary may use these priorities for competitions in fiscal year (FY) 2011 and later years.

We intend these two priorities to help increase the number of teachers at the Kindergarten-grade 12 (K-12) level with skills in a second language and knowledge of other cultures around the world by supporting short-term projects abroad (1) that provide pre-service teachers with training or courses in foreign languages and international area studies as part of a teacher education curriculum developed through collaboration between colleges or departments of education and colleges or departments of arts and sciences within institutions of higher education, and (2) in which at least 50 percent of participants are K-12 teachers, K-12 administrators, or both. The first priority supports projects that will help give pre-service teachers a deeper knowledge of languages and cultures from around the world. The second priority supports projects that will help increase the study abroad opportunities for in-service teachers, giving these individuals exposure to another country and its culture.

DATES: These priorities are effective October 25, 2010.

FOR FURTHER INFORMATION CONTACT: Michelle Guilfoil. Telephone: (202) 502-7625 or by e-mail: Michelle.Guilfoil@ed.gov.

If you use a telecommunications device for the deaf (TDD), call the Federal Relay Service (FRS), toll free, at 1-800-877-8339.

SUPPLEMENTARY INFORMATION:

Purpose of Program: The purpose of the Fulbright-Hays Group Projects Abroad Program is to provide grants for overseas projects in training, research, and curriculum development in modern foreign languages and area studies that will engage teachers, students, and faculty in a common endeavor. Projects may include short-term seminars, curriculum development, or group research or study.

Program Authority: 22 U.S.C. 2452(b)(6).

Applicable Program Regulations: 34 CFR part 664. We published a notice of proposed priorities for this program in the Federal Register on May 13, 2010, 75 FR 26945. That notice contained background information and our reasons for proposing the particular priorities. There are no differences between the proposed priorities and these final priorities.

Public Comment: In response to our invitation in the notice of proposed priorities, one party submitted comments on the proposed priorities.

Generally, we do not address technical and other minor changes, or suggested changes the law does not authorize us to make under the applicable statutory authority. In addition, we do not address general comments that raised concerns not directly related to the proposed priorities.

Analysis of Comments: An analysis of the comment and any changes in the priorities since publication of the notice of proposed priorities follows.

Priority 2—Greater Participation of K-12 Educators

Comment: The commenter suggested that rather than offering a priority to those applicants that provide for 50 percent or greater participation of K-12 educators in a short-term project, the program should provide a certain percentage of awards to those projects that focus exclusively on K-12 educators. The rationale provided was that the projects that are most effective are those that are offered exclusively to either K-12 or postsecondary educators as it is difficult to effectively design one project that fully addresses the needs of both of these groups.

Discussion: While we agree with the commenter that addressing the needs of varying groups of educators within one project may present challenges, we do not believe that it is necessary to revise the priority to address this specific need. First, we note that nothing in the priority precludes applicants from proposing projects exclusively for either K-12 or postsecondary educators.

Second, in our experience, the GPA program has supported numerous successful projects that have provided exceptional opportunities for varying groups of educators. These GPA program participants have experienced substantive learning, not only about host countries, cultures and languages, but from each other as well. This collaboration amongst educators at different levels of the education system often proves to be extremely productive and beneficial to GPA projects in providing for substantive follow-up opportunities, collaboration, and additional professional growth experiences. Accordingly, we believe it is important for applicants to have the option of structuring their projects to focus on varying groups of educators.

Changes: None.

Final Priorities

Priority 1

Applications that, through collaborative efforts between one or more colleges or departments of education and one or more colleges or departments of arts and sciences within a single institution of higher education or within a consortium of higher education institutions, propose short-term projects abroad that provide pre-service teachers with training or courses in foreign languages and international area studies as part of the teacher education curriculum.

Priority 2

Applications that propose short-term projects abroad that develop and improve foreign language studies, area studies, or both at elementary and secondary schools by including K-12 teachers or K-12 administrators as at least 50 percent of the project participants.

Types of Priorities

When inviting applications for a competition using one or more priorities, we designate the type of each priority as absolute, competitive preference, or invitation. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use one or more of these priorities, we invite applications through a notice in the Federal Register.

Executive Order 12866: This notice of final priorities has been reviewed in accordance with Executive Order 12866. Under the terms of the order, we have assessed the potential costs and benefits of this regulatory action.

The potential costs associated with this regulatory action are those resulting from statutory requirements and those we have determined as necessary for administering these programs effectively and efficiently.

In assessing the potential costs and benefits—both quantitative and qualitative—of this regulatory action, we have determined that the benefits of the final priorities justify the costs.

We have also determined that this regulatory action does not unduly interfere with State, local, and Tribal governments in the exercise of their governmental functions.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF), on the Internet at the following site: http://www.ed.gov/news/fedregister. To use PDF, you must have Adobe Acrobat Reader, which is available free at this site.

Note: The official version of this document is the document published in the Federal Register. Free Internet access to the official edition of the Federal Register and the Code of Federal Regulations is available on GPO Access at: http://www.gpoaccess.gov/nara/index.html.

Delegation of Authority: The Assistant Secretary of Postsecondary Education has delegated authority to Daniel T. Madzelan, Director, Forecasting and Policy Analysis for the Office of Postsecondary Education to perform the functions of the Assistant Secretary for Postsecondary Education.

Dated: September 21, 2010.
Daniel T. Madzelan,
Director, Forecasting and Policy Analysis.

[FR Doc. 2010-24002 Filed 9-23-10; 8:45 am]

BILLING CODE 4000-01-P